DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual Regulatory Agenda.

SUMMARY: This notice provides the semiannual agenda of Department of the Interior (Department) rules scheduled for review or development between Fall 2022 and Fall 2023. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 208-3181.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

This edition of the Unified Agenda of Federal Regulatory and Deregulatory Actions includes The Regulatory Plan, which appears in both the online Unified Agenda and in part II of the Federal Register that includes the Unified Agenda. The Department's Statement of Regulatory Priorities is included in the Plan.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation.

Bivan R. Patnaik,
Deputy Director of Policy and Regulatory Affairs, Executive Secretariat and Regulatory Affairs.

Bureau of Safety and Environmental Enforcement—Proposed Rule Stage
Sequence No. | Title | Regulation Identifier No.
348 | Outer Continental Shelf Civil Penalties, Surety Bond Requirements When Filing an Appeal | 1014-AA57

Bureau of Safety and Environmental Enforcement—Final Rule Stage
Sequence No. | Title | Regulation Identifier No.
349 | Oil and Gas and Sulfur Operations in the Outer Continental Shelf-Blowout Preventer Systems and Well Control Revisions | 1014-AA52

Bureau of Safety and Environmental Enforcement—Long-Term Actions
Sequence No. | Title | Regulation Identifier No.
350 | Revisions to Decommissioning Requirements on the OCS | 1014-AA53

Assistant Secretary for Land and Minerals Management—Final Rule Stage
Sequence No. | Title | Regulation Identifier No.
351 | Risk Management, Financial Assurance and Loss Prevention—Decommissioning Activities and Obligations | 1082-AA02

United States Fish and Wildlife Service—Proposed Rule Stage
Sequence No. | Title | Regulation Identifier No.
352 | Importation, Exportation and Transportation of Wildlife; Updates to the Regulations | 1018-BF16
353 | Migratory Bird Hunting; 2023-24 Migratory Game Bird Hunting Regulations | 1018-BF64
354 | Migratory Bird Hunting; 2024-25 Migratory Game Bird Hunting Regulations | 1018-BG63

United States Fish and Wildlife Service—Completed Actions
Sequence No. | Title | Regulation Identifier No.
355 | Migratory Bird Hunting; 2022-23 Migratory Game Bird Hunting Regulations | 1018-BF07

National Park Service—Final Rule Stage
Sequence No. | Title | Regulation Identifier No.
356 | Commercial Visitor Services; Concession Contracts | 1024-AE57

Bureau of Ocean Energy Management—Long-Term Actions
Sequence No. | Title | Regulation Identifier No.
357 | Air Quality Rule | 1010-AE09

Bureau of Land Management—Proposed Rule Stage
Sequence No. | Title | Regulation Identifier No.
358 | Sustained Yield and Land Health (Section 610 Review) | 1004-AE92

Bureau of Land Management—Final Rule Stage
Sequence No. | Title | Regulation Identifier No.
359 | Helium Contracts (Section 610 Review) | 1004-AE93

DEPARTMENT OF THE INTERIOR (DOI)

Bureau of Safety and Environmental Enforcement (BSEE)

Proposed Rule Stage

348. • Outer Continental Shelf Civil Penalties, Surety Bond Requirements When Filing an Appeal [1014-AA57]

Legal Authority: Outer Continental Shelf Lands Act (OCSLA), 43 U.S.C. 1331 to 1356a

Abstract: This rulemaking would clarify BSEE's existing regulatory authority under 30 CFR 250.1409, which establishes criteria that must be met before a party may proceed with an appeal of a civil penalty pursuant to 30 CFR part 290. Before filing an appeal to the Interior Board of Land Appeals (IBLA), an operator must either submit a surety bond to BSEE's sister agency, BOEM, in the amount of the penalty, or notify BOEM that they want their lease bond to be used as the bond for the penalty amount.

Timetable:

Action | Date | FR Cite
NPRM | 04/00/23 |
NPRM Comment Period End | 06/00/23 |
Final Action | 10/00/23 |
Final Action Effective | 11/00/23 |

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA57

DEPARTMENT OF THE INTERIOR (DOI)

Bureau of Safety and Environmental Enforcement (BSEE)

Final Rule Stage

349. Oil and Gas and Sulfur Operations in the Outer Continental Shelf-Blowout Preventer Systems and Well Control Revisions [1014-AA52]

Legal Authority: Not Yet Determined

Abstract: This rulemaking would revise the Bureau of Safety and Environmental Enforcement (BSEE) regulations published in the 2019 final rule entitled “Oil and Gas and Sulfur Operations in the Outer Continental Shelf-Blowout Preventer Systems and Well Control Revisions,” 84 FR 21908 (May 15, 2019), for drilling, workover, completion and decommissioning operations. In accordance with Executive Order (E.O.) 13990 (Protecting Public Health and the Environment and Restoring Science to Tackle the Climate Crisis) and the E.O.'s accompanying “President's Fact Sheet: List of Agency Actions for Review,” BSEE reviewed the 2019 final rule and plans to propose updates to Subpart G of 30 CFR part 250 to ensure operations are conducted safely and in an environmentally responsible manner.

Timetable:

Action | Date | FR Cite
NPRM | 09/14/22 | 87 FR 56354
NPRM Comment Period End | 11/14/22 |
Final Action | 05/00/23 |
Final Action Effective | 06/00/23 |

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA52

DEPARTMENT OF THE INTERIOR (DOI)

Bureau of Safety and Environmental Enforcement (BSEE)

Long-Term Actions

350. Revisions to Decommissioning Requirements on the OCS [1014-AA53]

Legal Authority: Outer Continental Shelf Lands Act, 43 U.S.C. 1331 to 1356a

Abstract: This proposed rule would address issues relating to (1) idle iron by adding a definition of this term to clarify that it applies to idle wells and structures on active leases; (2) abandonment in place of subsea infrastructure by adding regulations addressing when BSEE may approve decommissioning-in-place instead of removal of certain subsea equipment; and (3) other operational considerations.

Timetable:

Action | Date | FR Cite
NPRM | 12/00/23 |
NPRM Comment Period End | 02/00/24 |

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA53

DEPARTMENT OF THE INTERIOR (DOI)

Assistant Secretary for Land and Minerals Management (ASLM)

Final Rule Stage

351. Risk Management, Financial Assurance and Loss Prevention—Decommissioning Activities and Obligations [1082-AA02]

Legal Authority: 43 U.S.C. 1334(a)

Abstract: On October 12, 2020, the Bureau of Ocean Energy Management (BOEM) and Bureau of Safety and Environmental Enforcement (BSEE) published the joint proposed rule in the Federal Register (85 FR 65904). BSEE will continue to pursue this rulemaking as a BSEE-only final rule to revise policies and procedures concerning compliance with decommissioning obligations for Outer Continental Shelf (OCS) oil and gas. The final rule will clarify and streamline specific regulatory requirements associated with the operational and procedural aspects of applicable decommissioning responsibilities of OCS lessees and grant holders. BOEM will continue to evaluate and develop a comprehensive set of regulations to manage the risks and financial obligations associated with industry activities on the OCS and pursue these actions in a separate rulemaking under RIN 1010-AE14.

Timetable:

Action | Date | FR Cite
NPRM | 10/16/20 | 85 FR 65904
NPRM Comment Period End | 12/15/20 |
Final Action | 12/00/22 |
Final Action Effective | 12/00/22 |

Regulatory Flexibility Analysis Required: Yes.

Agency Contact: Bivan Patnaik, Deputy Director of Regulatory Affairs, Department of the Interior, Washington, DC 20240, Phone: 202 208-4582, Email: bivan_patnaik@ios.doi.gov.

RIN: 1082-AA02

DEPARTMENT OF THE INTERIOR (DOI)

United States Fish and Wildlife Service (FWS)

Proposed Rule Stage

352. Importation, Exportation and Transportation of Wildlife; Updates to the Regulations [1018-BF16]

Legal Authority: 16 U.S.C. 33 8(d)-(f); 16 U.S.C. 668; 16 U.S.C. 704; 16 U.S.C. 712; 16 U.S.C. 1382; 16 U.S.C. 1538(d)-(f); 16 U.S.C. 1540(f); 16 U.S.C. 3371 to 3378; 16 U.S.C. 4223 to 4244; 16 U.S.C. 4901 to 4916; 18 U.S.C. 42; 31 U.S.C. 42; 31 U.S.C. 9701; . . .

Abstract: This proposed rule would revise FWS's regulations governing the importation and exportation of wildlife. In this rulemaking, FWS would review all sections of 50 CFR part 14 and provide necessary revisions.

Timetable:

Action | Date | FR Cite
NPRM | 07/00/23 |

Regulatory Flexibility Analysis Required: Yes.

Agency Contact: Edward Grace, Assistant Director, Office of Law Enforcement, Department of the Interior, United States Fish and Wildlife Service, 5275 Leesburg Pike, MS: LEO, Falls Church, VA 22041-3803, Phone: 703 358-1949, Fax: 703 358-1947, Email: edward_grace@fws.gov.

RIN: 1018-BF16

353. Migratory Bird Hunting; 2023-24 Migratory Game Bird Hunting Regulations [1018-BF64]

Legal Authority: 16 U.S.C. 703 et seq.; 16 U.S.C. 742a-j

Abstract: This proposed rule would establish annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 11/03/22 | 87 FR 66247
NPRM Comment Period End | 12/05/22 |
Proposed Frameworks | 02/00/23 |
Proposed Tribal Regulations | 03/00/23 |
Final Frameworks | 07/00/23 |
Final Tribal Regulations | 08/00/23 |
Seasons and Bag Limits | 08/00/23 |

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BF64

354. Migratory Bird Hunting; 2024-25 Migratory Game Bird Hunting Regulations [1018-BG63]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 08/00/23 |

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BG63

DEPARTMENT OF THE INTERIOR (DOI)

United States Fish and Wildlife Service (FWS)

Completed Actions

355. Migratory Bird Hunting; 2022-23 Migratory Game Bird Hunting Regulations [1018-BF07]

Legal Authority: 16 U.S.C. 703 to 712; 16 U.S.C. 742a-j

Abstract: This rulemaking action established annual hunting regulations for certain migratory game birds for the 2022-23 hunting season. FWS annually prescribes outside limits (frameworks) within which States and Tribes may select hunting seasons. This rulemaking action was conducted under the direction of the Service Migratory Bird Regulations Committee and the Flyway Councils.

Timetable:

Action | Date | FR Cite
Notice of Meeting | 03/25/21 | 86 FR 15957
Meeting | 04/06/21 |
NPRM | 08/31/21 | 86 FR 48649
NPRM Comment Period End | 09/30/21 |
NPRM—Proposed Frameworks | 02/02/22 | 87 FR 5946
NPRM Comment Period End—Proposed Frameworks | 03/04/22 |
NPRM—Proposed Tribal Regulations | 06/14/22 | 87 FR 35942
NPRM Comment Period End—Proposed Tribal Regulations | 07/14/22 |
Final Action—Final Frameworks | 07/15/22 | 87 FR 42598
Final Action Effective | 07/15/22 |
Final Action—Season Selections | 08/19/22 | 87 FR 50965
Final Action Effective | 08/19/22 |
Final Action—Final Tribal Regulations | 08/31/22 | 87 FR 53404
Final Action Effective | 08/31/22 |

Regulatory Flexibility Analysis Required: Yes.

Agency Contact: Jerome Ford, Assistant Director—Migratory Bird Program, Department of the Interior, United States Fish and Wildlife Service, 5275 Leesburg Pike, MS-MB, Falls Church, VA 22041-3803, Phone: 703 358-1050, Email: jerome_ford@fws.gov.

RIN: 1018-BF07

DEPARTMENT OF THE INTERIOR (DOI)

National Park Service (NPS)

Final Rule Stage

356. Commercial Visitor Services; Concession Contracts [1024-AE57]

Legal Authority: 54 U.S.C. 101926

Abstract: This final rule will revise regulations that govern the solicitation, award, and administration of concessions contracts to provide commercial visitor services at NPS units under the authority granted through the Concessions Management Improvement Act of 1998. The changes will reduce administrative burdens and expand sustainable, high quality, and contemporary concessioner-provided visitor services in national parks.

Timetable:

Action | Date | FR Cite
NPRM | 07/20/20 | 85 FR 43775
NPRM Comment Period End | 09/18/20 |
Final Rule | 12/00/22 |

Regulatory Flexibility Analysis Required: Yes.

Agency Contact: Kurt M. Rausch, Chief, Contract Management, Department of the Interior, National Park Service, 1849 C Street NW, Washington, DC 20240, Phone: 202 513-7207, Email: kurt_rausch@nps.gov.

RIN: 1024-AE57

DEPARTMENT OF THE INTERIOR (DOI)

Bureau of Ocean Energy Management (BOEM)

Long-Term Actions

357. Air Quality Rule [1010-AE09]

Legal Authority: OCSLA sec. 5(a)(8)

Abstract: This proposed rule would identify opportunities for clarifying air quality regulations.

Timetable:

Action | Date | FR Cite
NPRM | To Be Determined

Regulatory Flexibility Analysis Required: Yes.

Agency Contact: Karen Thundiyil, Department of the Interior, Bureau of Ocean Energy Management, 1849 C Street NW, Washington, DC 20240, Phone: 202 208-3977.

RIN: 1010-AE09

DEPARTMENT OF THE INTERIOR (DOI)

Bureau of Land Management (BLM)

Proposed Rule Stage

358. • Sustained Yield and Land Health (Section 610 Review) [1004-AE92]

Legal Authority: 43 U.S.C. 1732(a)

Abstract: The Department of the Interior (DOI), Bureau of Land Management (BLM) is drafting a rule to clarify and support the principles of multiple use and sustained yield in the management of the public lands. This rule would incorporate climate resiliency and restoration through conservation and preservation in the management of the public lands pursuant to the Federal Land Policy and Management Act (FLPMA) and other relevant authorities. This proposed rule rests within 43 CFR 6000, which includes Conservation and Preservation, and would provide an overarching framework governing multiple resource areas to ensure land health and sustained yield. This rule would affirm the important role of restoration and conservation actions in building and maintaining sustainable land management practices to ensure healthy and productive ecosystems for current and future generations.

Timetable:

Action | Date | FR Cite
NPRM | 12/00/22 |

Regulatory Flexibility Analysis Required: Undetermined.

Agency Contact: Sheila Mallory, Acting Division Chief, Fluid Minerals Division, Department of the Interior, Bureau of Land Management, 20 M Street SE, Washington, DC 20003, Phone: 775 287-3293, Email: smallory@blm.gov.

RIN: 1004-AE92

DEPARTMENT OF THE INTERIOR (DOI)

Bureau of Land Management (BLM)

Final Rule Stage

359. • Helium Contracts (Section 610 Review) [1004-AE93]

Legal Authority: 50 U.S.C. seec. 167d (d)(1)

Abstract: On October 2, 2013, Congress enacted the Helium Stewardship Act of 2013. This Act required the Department of the Interior (DOI), through the Director of the Bureau of Land Management (BLM), to begin offering helium for auction or sale on an annual basis. Additionally, the Helium Stewardship Act of 2013 required BLM to dispose of the Federal Helium System (including the Federal Helium Reserve) as of September 30, 2021. Any excess helium and helium assets remaining on September 30, 2021, will be transferred to the General Services Administration (GSA), which will follow its statutory disposal process. Federal In-Kind users will continue to have access to helium until September 30, 2022, while the GSA completes its disposal process.

Timetable:

Action | Date | FR Cite
Final Action | 12/00/22 |

Regulatory Flexibility Analysis Required: Yes.

Agency Contact: Amy Hay, Division Chief, Division of Business Resources, Department of the Interior, Bureau of Land Management, Denver Federal Center, Building 50, Denver, CO 80225-0047, Phone: 703 870-8844, Email: ahay@blm.gov.

RIN: 1004-AE93

[FR Doc. 2023-02028 Filed 2-21-23; 8:45 am]

BILLING CODE 4334-63-P